DEPARTMENT OF ENERGY

Federal Energy Regulatory Commission

[Project No. 14391-000]

American River Power VIII, LLC; Notice of Preliminary Permit Application Accepted for Filing and Soliciting Comments, Motions To Intervene, and Competing Applications

On April 20, 2012, American River Power VIII, LLC filed an application for a preliminary permit under section 4(f) of the Federal Power Act proposing to study the feasibility of the proposed Upper Appleton Dam Hydroelectric Water Power Project No. 14391, to be located at the existing Upper Appleton Dam on the Fox River, near the city of Appleton in Outagamie County, Wisconsin. The Upper Appleton Dam is owned by the United States government and operated by the United States Army Corps of Engineers.

The proposed project would consist of: (1) One new 80-foot-long by 50-foot-wide by 20-foot-high reinforced concrete powerhouse, containing two 2.5-megawatt (MW) turbine/generator units for a total capacity of 5 MW; (2) a new 75-foot-long by 36-foot-wide by 24- to 39-foot-high reinforced concrete draft tube structure; (3) a new transformer and switchyard; (4) a new 850-foot-long, 69-kilovolt transmission line; and (5) appurtenant facilities. The project would have an estimated annual generation of 38.5 gigawatt-hours.

Applicant Contact: Mr. Michael Skelly, 726 Eldridge Avenue, Collingswood, NJ 08107-1708; (856) 240-0707.

FERC Contact: Tyrone A. Williams, (202) 502-6331.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application can be viewed or printed on the “eLibrary” link of Commission's Web site at http://www.ferc.gov/docs-filing/elibrary.asp. Enter the docket number (P-14391) in the docket number field to access the document. For assistance, contact FERC Online Support.

Dated: July 10, 2012.
Kimberly D. Bose,
Secretary.

[FR Doc. 2012-17250 Filed 7-13-12; 8:45 am]

BILLING CODE 6717-01-P